DEPARTMENT OF TRANSPORTATION

Office of the Secretary; Application of GoJet Airlines, LLC for Certificate Authority: Correction

AGENCY: Department of Transportation.

ACTION: Correction to Notice of Order To Show Cause (Order 2005-7-14) Docket OST-2004-19877.

SUMMARY: By Order 2005-7-14, served on July 15, 2005, the Department tentatively concluded that GoJet Airlines, LLC is fit, willing, and able to provide tentatively scheduled air transportation of persons, property, and mail, and should be issued a certificate of public convenience and necessity authorizing such operations, subject to conditions. At that time, we directed interested parties to file objections no later than 14 days after the service date of the order (i.e., July 29, 2005). Subsequently, the Department published a notice in the Federal Register on July 21, 2005, inadvertently directing all interested parties wishing to file objections should to do so by August 29, 2005. In order to correct this administrative error, while, at the same time, providing interested parties with a suitable period of time to file comments, we find it appropriate to direct persons wishing to file objections to our tentative decision to do so by August 15, 2005.

FOR FURTHER INFORMATION CONTACT: Ms. Lauralyn Remo, Air Carrier Fitness Division (X-56, Room 6401), U.S. Department of Transportation, 400 Seventh Street, SW., Washington, DC 20590, (202) 366-9721.

Correction

In the Federal Register of July 21, 2005, in FR Doc. 05-14378, on page 42135, in the second column, correct the DATES caption to read:

DATES: Persons wishing to file objections should do so no later than August 15, 2005.

Dated: August 4, 2005.
Karan K. Bhatia,
Assistant Secretary for Aviation and International Affairs.

[FR Doc. 05-15917 Filed 8-9-05; 8:45 am]

BILLING CODE 4910-62-M